DEPARTMENT OF ENERGY

Federal Energy Regulatory Commission

Combined Notice of Filings #2

Take notice that the Commission received the following electric rate filings:

Docket Numbers: ER15-501-000.

Applicants: Trans Bay Cable LLC.

Description: Report Filing: Refund Report Under Docket ER15-501 to be effective N/A.

Filed Date: 10/15/15.

Accession Number: 20151015-5282.

Comments Due: 5 p.m. ET 11/5/15.

Docket Numbers: ER16-85-000.

Applicants: Midcontinent Independent System Operator, Inc.

Description: § 205(d) Rate Filing: 2015-10-15_SA 2853 Certificate of Concurrence IMTCO-NIPSCO Agreement to be effective 7/1/2015.

Filed Date: 10/15/15.

Accession Number: 20151015-5190.

Comments Due: 5 p.m. ET 11/5/15.

Docket Numbers: ER16-86-000.

Applicants: Arizona Public Service Company.

Description: § 205(d) Rate Filing: Rate Schedule No. 217 Exhibit B.SGR and Exhibit D to be effective 12/15/2015.

Filed Date: 10/15/15.

Accession Number: 20151015-5193.

Comments Due: 5 p.m. ET 11/5/15.

Docket Numbers: ER16-87-000.

Applicants: PacifiCorp.

Description: Tariff Cancellation: Termination of WAPA-BH Windstar Boundary Meter Install Agmt to be effective 12/31/2015.

Filed Date: 10/15/15.

Accession Number: 20151015-5198.

Comments Due: 5 p.m. ET 11/5/15.

Docket Numbers: ER16-88-000.

Applicants: Midcontinent Independent System Operator, Inc.

Description: § 205(d) Rate Filing: 2015-10-15 Retail Choice Data Submission to be effective 12/15/2015.

Filed Date: 10/15/15.

Accession Number: 20151015-5281.

Comments Due: 5 p.m. ET 11/5/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 15, 2015.
Nathaniel J. Davis, Sr.,
Deputy Secretary.

[FR Doc. 2015-26712 Filed 10-20-15; 8:45 am]

BILLING CODE 6717-01-P